DEPARTMENT OF COMMERCE

International Trade Administration

[A-588-833]

Initiation of Antidumping Duty Changed-Circumstances Review: Stainless Steel Bar From Japan

AGENCY: Import Administration, International Trade Administration, Department of Commerce.

SUMMARY: In accordance with section 751(b) of the Tariff Act of 1930, as amended (the Act), and § 351.216(b) of the Department of Commerce's (the Department's) regulations, TRW Fuji Valve, Inc. (TRW), a U.S. importer, filed a request for a changed-circumstances review of the antidumping duty order on stainless steel bar from Japan. The petitioners and domestic interested parties have affirmatively expressed a lack of interest in the continuation of the order with respect to 21-2N modified valve/stem stainless steel round bar.¹ In response to this request, the Department is initiating a changed-circumstances review of the order on stainless steel bar from Japan with respect to this product as described below.

¹ The petitioners and domestic interested parties include Carpenter Technology Corp., Crucible Specialty Metals Division of Crucible Materials Corp., Electralloy Corp., North American Stainless, Universal Stainless and Alloy Products, Inc., and Valbruna Slater Stainless, Inc.

EFFECTIVE DATE: October 16, 2006.

FOR FURTHER INFORMATION CONTACT: Dmitry Vladimirov or Minoo Hatten, AD/CVD Operations, Office 5, Import Administration, International Trade Administration, Department of Commerce, 14th Street and Constitution Avenue, NW., Washington, DC 20230; telephone: (202) 482-0665 or (202) 482-1690.

SUPPLEMENTARY INFORMATION:

Background

On August 28, 2006, TRW ² requested that the Department conduct a changed-circumstances review of the order on stainless steel bar from Japan and exclude a product to which it referred as 21-2N modified valve/stem stainless steel round bar from the scope of the order. See TRW's letter to the Secretary, dated August 28, 2006. Specifically, TRW requested that the Department exclude imports meeting the following description from the order on stainless steel bar from Japan: certain valve/stem stainless steel round bar of 21-2N modified grade, having a diameter of 5.7 millimeters (with a tolerance of 0.025 millimeters), in length no greater than 15 meters, having a chemical composition consisting of a minimum of 0.50 percent and a maximum of 0.60 percent of carbon, a minimum of 7.50 percent and a maximum of 9.50 percent of manganese, a maximum of 0.25 percent of silicon, a maximum of 0.04 percent of phosphorus, a maximum of 0.03 percent of sulfur, a minimum of 20.0 percent and a maximum of 22.00 percent of chromium, a minimum of 2.00 percent and a maximum of 3.00 percent of nickel, a minimum of 0.20 percent and a maximum of 0.40 percent of nitrogen, a minimum of 0.85 percent of the combined content of carbon and nitrogen, and a balance minimum of iron, having a maximum core hardness of 385 HB and a maximum surface hardness of 425 HB, with a minimum hardness of 270 HB for annealed material. See TRW's letter to the Secretary, dated August 28, 2006. TRW requested that the Department revoke the order in part retroactively to February 1, 2006, the beginning of the anniversary month of the order. TRW stated that the steel product in question is not produced in commercial quantities in the United States.

² In its August 28, 2006, request TRW did not identify the sub-section of the term “interested party,” as defined by section 771(9) of the Act, which applies to TRW. In response to our September 21, 2006, request for clarification, in its September 25, 2006, response TRW identified itself as a U.S. importer of the subject merchandise.

On September 18, 2006, the petitioners and domestic interested parties provided a letter attesting to their expressed lack of interest in having this merchandise, as described above, continue to be subject to the antidumping duty order on stainless steel bar from Japan.

Scope of the Order

The scope of the order covers stainless steel bar (SSB). The term SSB with respect to the order means articles of stainless steel in straight lengths that have been either hot-rolled, forged, turned, cold-drawn, cold-rolled or otherwise cold-finished, or ground, having a uniform solid cross section along their whole length in the shape of circles, segments of circles, ovals, rectangles (including squares), triangles, hexagons, octagons or other convex polygons. SSB includes cold-finished SSBs that are turned or ground in straight lengths, whether produced from hot-rolled bar or from straightened and cut rod or wire, and reinforcing bars that have indentations, ribs, grooves, or other deformations produced during the rolling process. Except as specified above, the term does not include stainless steel semi-finished products, cut-length flat-rolled products (i.e., cut-length rolled products which if less than 4.75 mm in thickness have a width measuring at least 10 times the thickness, or if 4.75 mm or more in thickness having a width which exceeds 150 mm and measures at least twice the thickness), wire (i.e., cold-formed products in coils, of any uniform solid cross section along their whole length, which do not conform to the definition of flat-rolled products), and angles, shapes and sections. The SSB subject to this order is currently classifiable under subheadings 7222.10.0005, 7222.10.0050, 7222.20.0005, 7222.20.0045, 7222.20.0075, and 7222.30.0000 of the Harmonized Tariff Schedule of the United States (HTSUS). Although the HTSUS subheadings are provided for convenience and customs purposes, our written description of the scope of this order is dispositive.

Initiation of Changed-Circumstances Review

Pursuant to section 751(b)(1) of the Act, the Department will conduct a changed-circumstances review upon receipt of information concerning, or a request from an interested party for a review of, an antidumping duty order which shows changed circumstances sufficient to warrant a review of the order. As stated above, on August 28, 2006, TRW requested a determination by the Department in accordance with 19 CFR 351.216(b) to exclude the product described above from the scope of the order. TRW also requested that the Department make the revocation effective February 1, 2006.

Pursuant to section 751(b)(1) of the Act and 19 CFR 351.216(b), we are initiating a changed-circumstances review. Although the petitioners and domestic interested parties have expressed a lack of interest in the order with respect to the product in question, they did not claim that they represent substantially all of the production of the domestic like product nor has the Department made such a determination. Interested parties are invited to comment on this initiation or to demonstrate that the petitioners and domestic interested parties account for substantially all of the production of the domestic like product.

Public Comment

Interested parties may submit comments which the Department will take into account in the preliminary results of this review. The due date for filing any such comments is no later than 15 days after the date of publication of this notice. Responses to those comments may be submitted not later than 7 days following submission of the comments. All written comments must be submitted in accordance with 19 CFR 351.303. The Department will publish in the Federal Register a notice of preliminary results of changed-circumstances review in accordance with 19 CFR 351.221(b)(4) and 351.221(c)(3)(i), which will set forth the Department's preliminary factual and legal conclusions. Pursuant to 19 CFR 351.221(b)(4)(ii), interested parties will have an opportunity to comment on the preliminary results. The Department will issue its final results of review in accordance with the time limits set forth in 19 CFR 351.216(e). This notice is published in accordance with sections 751(b)(1) and 777(i)(1) of the Act and § 351.221(b) of the Department's regulations.

Dated: October 10, 2006.
David M. Spooner,
Assistant Secretary for Import Administration.

[FR Doc. E6-17149 Filed 10-13-06; 8:45 am]

BILLING CODE 3510-DS-P